DEPARTMENT OF HOMELAND SECURITY

Federal Emergency Management Agency

[Docket ID FEMA-2012-0026]

Notice To Extend the Comment Period for the Criteria for Preparation and Evaluation of Radiological Emergency Response Plans and Preparedness in Support of Nuclear Power Plants; NUREG-0654/FEMA-REP-1, Rev. 2

AGENCY: Federal Emergency Management Agency, DHS.

ACTION: Extension of comment period.

SUMMARY: The Federal Emergency Management Agency (FEMA) is extending the comment period for the proposed revision to “Criteria for Preparation and Evaluation of Radiological Emergency Response Plans and Preparedness in Support of Nuclear Power Plants” NUREG-0654/FEMA-REP-1, Rev. 2, which published in the Federal Register on May 29, 2015. The comment period for the proposed revised guidance, which would have ended on August 27, 2015, is extended until October 13, 2015.

DATES: The comment period is extended until October 13, 2015.

ADDRESSES: Comments must be identified by Docket ID FEMA-2012-0026 and may be submitted by one of the following methods:

Federal eRulemaking Portal: http://www.regulations.gov. Follow the instructions for submitting comments. Please note that this draft guidance is not a rulemaking and the Federal Rulemaking Portal is being utilized only as a mechanism for receiving comments.

Mail/Hand Delivery/Courier: Regulatory Affairs Division, Office of Chief Counsel, Federal Emergency Management Agency, 500 C Street SW., 8 NE., Washington, DC 20472.

FOR FURTHER INFORMATION CONTACT: William Eberst, Policy Supervisor, Professional Services Branch, Technological Hazards Division, Protection and National Preparedness Directorate, william.eberst@fema.dhs.gov, (202) 341-4917.

SUPPLEMENTARY INFORMATION:

I. Public Participation

Instructions: All submissions received must include the agency name and Docket ID. Regardless of the method used for submitting comments or material, all submissions will be posted, without change, to the Federal eRulemaking Portal at http://www.regulations.gov, and will include any personal information you provide. Therefore, submitting this information makes it public. You may wish to read the Privacy Act notice, which can be viewed by clicking on the “Privacy Notice” link on the homepage of www.regulations.gov.

You may submit your comments and material by methods specified in the ADDRESSES section above. Please submit your comments and any supporting material by only one means to avoid the receipt and review of duplicate submissions.

Docket: The draft guidance is available in Docket ID FEMA-2012-0026. For access to the docket to read background documents or comments received, go to the Federal eRulemaking Portal at http://www.regulations.gov and search for the Docket ID. Submitted comments may also be inspected at FEMA, Office of Chief Counsel, 500 C Street SW., 8 NE., Washington, DC 20472.

II. Background

In November 1980, the Federal Emergency Management Agency issued “Criteria for Preparation and Evaluation of Radiological Emergency Response Plans and Preparedness in Support of Nuclear Power Plants” (NUREG-0654/FEMA-REP-1, Rev. 1) with the Nuclear Regulatory Commission (NRC) as a joint policy document. (45 FR 85862, December 30, 1980). Since the publication of NUREG-0654/FEMA-REP-1, Rev. 1 in 1980, four supplementary documents and one addendum (66 FR 22270, May 3, 2001) have been issued that update and modify specific planning and procedural elements. FEMA and the NRC are proposing to revise NUREG-0654/FEMA-REP-1, Rev. 1 to address stakeholder interest and the various emergency planning and preparedness lessons learned since its initial publication.

On May 29, 2015, both FEMA and the NRC published notices to solicit public input on the draft “Criteria for Preparation and Evaluation of Radiological Emergency Response Plans and Preparedness in Support of Nuclear Power Plants,” NUREG-0654/FEMA-REP-1, Rev. 2. (80 FR 30697 and 80 FR 30739). Based on comments received, and because FEMA and the NRC have specifically requested the public's comments on the proposed revised guidance in an attempt to benefit from the experience of all interested parties, the comment period will be extended for an additional 45 days. This notice announces the extension of the public comment period to October 13, 2015.

Authority: NRC Authorization Acts of 1980 (Pub. L. 96-295) and 1982-1983 (Pub. L. 97-415); Robert T. Stafford Disaster Relief and Emergency Assistance Act, as amended, Titles II and VI, Sections 201 and 611, 42 U.S.C. 5131 and 5196; Homeland Security Act of 2002, as amended, Title VI, Chapter 1, Subchapter V, Sections 503 and 504, 6 U.S.C. 313 and 314; Security and Accountability for Every Port Act of 2006, Title V, Section 612, 6 U.S.C. 314a; Department of Veterans Affairs and Housing and Urban Development, and Independent Agencies Appropriations for 1999, 42 U.S.C. 5196e; Post-Katrina Emergency Management Reform Act of 2006, Title VI, Sections 602, 642, 643, and 644, 6 U.S.C. 701, 742, 743, and 744; Reorganization Plan No. 3 of 1978; E.O. 12241, as amended; E.O. 12127, as amended. E.O. 12148, as amended; E.O. 12657, as amended; FEMA's regulations in Title 44, Chapter I, Parts 350-354 of the CFR.

Dated: August 12, 2015.
W. Craig Fugate,
Administrator, Federal Emergency Management Agency.

[FR Doc. 2015-20721 Filed 8-20-15; 8:45 am]

BILLING CODE 9111-21-P